FEDERAL RESERVE SYSTEM

Consumer Advisory Council

On January 9, 2004, the Federal Reserve Board named nine new members to its Consumer Advisory Council for three-year terms and designated a new Chair and Vice Chair of the Council for 2004.

The Council advises the Board on the exercise of its responsibilities under the Consumer Credit Protection Act and on other matters in the area of consumer financial services. The Council meets three times a year in Washington, DC.

Agnes Bundy Scanlan was designated Chair; her term runs through December 2004. Ms. Scanlan is Managing Director and Chief Compliance Officer for FleetBoston Financial.

Mark Pinsky was designated Vice Chair; his term on the Council ends in December 2005. Mr. Pinsky is President and Chief Executive Officer for the National Community Capital Association.

The nine new members are:

Dennis L. Algiere Westerly, Rhode Island

Mr. Algiere is Senior Vice President of Compliance and Community Affairs and the Community Reinvestment Officer for The Washington Trust Company. He is responsible for the bank's compliance, community affairs, community reinvestment, and Bank Secrecy Act programs.

Sheila Canavan, Berkeley, California

Ms. Canavan is an attorney with a law practice that focuses on consumer litigation. Her litigation experience has involved state and federal consumer regulation, elder abuse, fraud, and unfair and unlawful business practices; and she has special expertise in matters relating to subprime lending and securitization of home mortgage products. Ms. Canavan represents consumers, often low-income consumers, on credit transaction issues.

Anne Diedrick, New York, New York

Ms. Diedrick is a Senior Vice President for JP Morgan Chase. She is an executive team member of the JPMorgan Chase Community Development Group; the senior officer in charge of Community Reinvestment Act compliance at JPMorgan Chase Bank, Chase Manhattan Bank, USA, N.A. and J.P. Morgan Trust Company, N.A.; and the senior manager in charge of the JPMorgan Chase Corporate Fair Lending Unit. She is also responsible for the Office of Strategic Alliances, which works with not-for-profit community development organizations.

Hattie B. Dorsey, Atlanta, Georgia

Ms. Dorsey is the President and Chief Executive Officer of the Atlanta Neighborhood Development Partnership, Inc., a not-for-profit corporation that promotes community revitalization in Atlanta's neighborhoods. Her experience is in single- and multi-family housing, community and economic development, regional equity, and public policy.

Bruce B. Morgan, Roeland Park, Kansas

Mr. Morgan is Chairman, President, Chief Executive Officer, and Director of Valley State Bank. He is actively involved in bank regulation, payments systems, and developing technologies that affect bank delivery of products and services. Mr. Morgan serves on the Customer Advisory Committee of the Federal Reserve Bank of Kansas City and on the Payment and Technology Committee of the Independent Community Bankers of America. He is a former member and past Chairman of the Kansas State Banking Board.

Mary Jane Seebach, Newbury Park, California

Ms. Seebach is Executive Vice President and Chief Compliance Officer for Countrywide Financial Corporation. She oversees legal and regulatory compliance programs throughout the enterprise. Previously, Ms. Seebach worked as regulatory counsel advising on state and federal consumer credit laws for Countrywide Home Loans, The Money Store, and North American Mortgage Company, and as a senior attorney for the Federal Reserve Board.

Paul J. Springman, Atlanta, Georgia

Mr. Springman is Group Executive, Predictive Sciences, for Equifax. He has responsibility for providing modeling, analytical services, decisioning systems and applications processing for clients. He has been involved in launching a new business line, “Consumer Direct,” to provide credit information, account monitoring alerts, and scoring analysis services to consumers.

Forrest F. Stanley, Cleveland, Ohio

Mr. Stanley is Senior Vice President and Associate General Counsel for KeyBank. He has responsibility for all legal matters affecting retail banking including mortgage, home equity, credit and debit cards, privacy, the Community Reinvestment Act, e-commerce, and the USA Patriot Act. Mr. Stanley has also been director of two KeyBank subsidiaries, Champion Mortgage Company and Key Bank USA. He currently serves as Chairman of the bank's Fair Lending Executive Committee.

Lori R. Swanson, St. Paul, Minnesota

Ms. Swanson is Solicitor General for the Office of the Minnesota Attorney General. She is responsible for civil litigation and oversees several divisions including Consumer Enforcement, Commerce, and Consumer Services. She negotiated a first-of-its-kind settlement with a national bank in a lawsuit alleging violations of state consumer protection laws and the Fair Credit Reporting Act based on disclosure of personal financial information.

Council members whose terms continue through 2004 are:

Janie Barrera, President and Chief Executive Officer, ACCION Texas, San Antonio, Texas.

Kenneth P. Bordelon, Chief Executive Officer, E Federal Credit Union, Baton Rouge, Louisiana.

Robin Coffey, Vice President, Harris Trust and Savings Bank, Chicago, Illinois.

Thomas FitzGibbon, Senior Vice President, MB Financial Bank, N.A., Chicago, Illinois.

Larry Hawkins, President and Chief Executive Officer, Unity National Bank, Houston, Texas.

Ruhi Maker, Senior Attorney, Public Interest, Law Office of Rochester, Rochester, New York.

Patricia McCoy, Professor of Law, University of Connecticut School of Law, Hartford, Connecticut.

Elsie Meeks, Executive Director, First Nations Oweesta Corporation, Kyle, South Dakota.

Debra S. Reyes, President, Neighborhood Lending Partners, Inc., Tampa, Florida.

Benson Roberts, Vice President for Policy, Local Initiatives Support Corporation, Washington, DC.

Hubert Van Tol, Co-Director, Fairness in Rural Lending, Sparta, Wisconsin.

Council members whose terms continue through 2005 are:

Susan Bredehoft, Senior Vice President/Compliance Risk Management, Commerce Bank, N.A., Cherry Hill, New Jersey.

Dan Dixon, Group Senior Vice President, World Savings Bank, FSB, Washington, DC.

James Garner, Senior Vice President and General Counsel, North American Consumer Finance, Citigroup, Baltimore, Maryland.

R. Charles Gatson, Vice President, Midtown Community Development Corporation, Kansas City, Missouri.

W. James King, President and Chief Executive Officer, Community Redevelopment Group, Cincinnati, Ohio.

Benjamin Robinson, III, Senior Vice President, Strategy Management Executive, Bank of America, Charlotte, North Carolina.

Diane Thompson, Supervising Attorney, Land of Lincoln Legal Assistance Foundation, Inc., East St. Louis, Illinois.

Clint Walker, General Counsel/Chief Administrative Officer, Juniper Bank, Wilmington, Delaware.

Board of Governors of the Federal Reserve System, January 14, 2004.
Jennifer J. Johnson,
Secretary of the Board.

[FR Doc. 04-1224 Filed 1-20-04; 8:45 am]

BILLING CODE 6210-01-P